DEPARTMENT OF COMMERCE

International Trade Administration

Notice of Scope Rulings

AGENCY: Import Administration, International Trade Administration, Department of Commerce.

DATES: Effective Date: December 20, 2010.

SUMMARY: The Department of Commerce (“Department”) hereby publishes a list of scope rulings completed between April 1, 2010, and June 30, 2010. In conjunction with this list, the Department is also publishing a list of requests for scope rulings and anticircumvention determinations pending as of June 30, 2010. We intend to publish future lists after the close of the next calendar quarter.

FOR FURTHER INFORMATION CONTACT: Julia Hancock, AD/CVD Operations, China/NME Group, Import Administration, International Trade Administration, U.S. Department of Commerce, 14th Street and Constitution Avenue, NW., Washington, DC 20230; telephone: 202-482-1394.

SUPPLEMENTARY INFORMATION:

Background

The Department's regulations provide that the Secretary will publish in the Federal Register a list of scope rulings on a quarterly basis. See 19 CFR 351.225(o). Our most recent notification of scope rulings was published on August 25, 2010. See Notice of Scope Rulings, 75 FR 52311 (August 25, 2010). This current notice covers all scope rulings and anticircumvention determinations completed by Import Administration between April 1, 2010, and June 30, 2010, inclusive, and it also lists any scope or anticircumvention inquiries pending as of June 30, 2010. As described below, subsequent lists will follow after the close of each calendar quarter.

Scope Rulings Completed Between April 1, 2010, and June 30, 2010:

People's Republic of China

A-570-502: Iron Construction Castings From the People's Republic of China

Requestor: National Diversified Sales; its grates and frames are outside the scope of the antidumping duty order; April 16, 2010.

A-570-891: Hand Trucks From the People's Republic of China

Requestor: PelRay International LLC; its Janitor Cart, Large Dinner Trolleys (model nos. D-012 and D-012A) and Small Dinner Trolleys (model nos. D-013 and D-013A) are outside the scope of the antidumping duty order; April 12, 2010.

A-570-891: Hand Trucks From the People's Republic of China

Requestor: Northern Tool & Equipment Co.; its high-axle torch cart (item #164771) is outside the scope of the antidumping duty order; June 1, 2010.

A-570-899: Artist Canvas From the People's Republic of China

Requestor: Wuxi Phoenix Artist Materials Co., Ltd.; its framed artist canvas is not within the scope of the antidumping duty order; May 13, 2010.

A-570-909: Steel Nails From the People's Republic of China

Requestor: Itochu Building Products; its plastic cap steel nails are within the scope of the antidumping duty order; May 12, 2010.

A-570-941/C-570-942: Kitchen Appliance Shelving and Racks From the People's Republic of China

Requestor: Custom BioGenic Systems, Inc.; its inventory control racks are outside the scope of the antidumping duty and countervailing orders; April 1, 2010.

A-570-918: Steel Wire Garment Hangers From the People's Republic of China

Requestor: Target Corporation; its chrome-plated accessory hangers are outside the scope of the antidumping duty order; May 12, 2010.

Germany

A-428-801: Ball Bearings and Parts Thereof From Germany

Requestor: Schaeffler Group; its ball roller bearings are within the scope of the antidumping duty order; May 11, 2010.

Anticircumvention Determinations Completed Between April 1, 2010, and June 30, 2010: None.

Scope Inquiries Terminated Between April 1, 2010, and June 30, 2010: None.

Anticircumvention Inquiries Terminated Between April 1, 2010, and June 30, 2010: None.

Scope Inquiries Pending as of June 30, 2010:

Germany

A-428-801: Ball Bearings and Parts From Germany

Requestor: Myonic GmbH; whether its turbocharger spindle units are within the scope of the antidumping duty order; requested January 11, 2010; initiated April 16, 2010.

People's Republic of China

A-570-504: Petroleum Wax Candles From the People's Republic of China

Requestor: Trade Associates Group, Ltd.; whether its candles (multiple designs) are within the scope of the antidumping duty order; requested June 11, 2009.

A-570-504: Petroleum Wax Candles From the People's Republic of China

Requestor: Sourcing International, LLC; whether its flower candles are within the scope of the antidumping duty order; requested June 24, 2009.

A-570-504: Petroleum Wax Candles From the People's Republic of China

Requestor: Sourcing International; whether its candles (multiple designs) are within the scope of the antidumping duty order; requested July 28, 2009.

A-570-504: Petroleum Wax Candles From the People's Republic of China

Requestor: Sourcing International; whether its floral bouquet candles are within the scope of the antidumping duty order; requested August 25, 2009.

A-570-504: Petroleum Wax Candles From the People's Republic of China

Requestor: Candym Enterprises Ltd.; whether its vegetable candles are within the scope of the antidumping duty order; requested November 9, 2009.

A-570-601: Tapered Roller Bearings From the People's Republic of China

Requestor: Blackstone OTR LLC and OTR Wheel Engineering, Inc.; whether its wheel hub assemblies are within the scope of the antidumping duty order; requested March 3, 2010.

A-570-601: Tapered Roller Bearings From the People's Republic of China

Requestor: New Trend Engineering Ltd.; whether certain of its wheel hub assemblies are within the scope of the antidumping duty order; requested March 5, 2010.

A-570-806: Silicon Metal From the People's Republic of China

Requestor: Globe Metallurgical Inc.; whether certain silicon metal exported by Ferro-Alliages et Mineraux to the United States from Canada is within the scope of the antidumping duty order; requested October 1, 2008.

A-570-827: Cased Pencils From the People's Republic of China

Requestor: Inspired Design LLC; whether its pedestal pets are within the scope of the antidumping duty order; requested March 4, 2010.

A-570-864: Pure Magnesium in Granular Form From the People's Republic of China

Requestor: ESM Group Inc.; whether atomized ingots are within the scope of the antidumping duty order; requested April 11, 2006; initiated April 18, 2007; preliminary ruling issued August 27, 2008.

A-570-868: Folding Metal Tables and Chairs From the People's Republic of China

Requestor: Academy Sports & Outdoors; whether its bistro sets, consisting of two chairs and a table, are outside the scope of the antidumping duty order; requested January 11, 2010; initiated March 18, 2010.

A-570-890: Wooden Bedroom Furniture From the People's Republic of China

Requestor: Target Corporation; whether its kid's accent table is within the scope of the antidumping duty order; requested March 18, 2010.

A-570-890: Wooden Bedroom Furniture From the People's Republic of China

Requestor: Legacy Classic Furniture; whether its heritage court bench is within the scope of the antidumping duty order; requested June 16, 2010.

A-570-899: Artist Canvas From the People's Republic of China

Requestor: Masterpiece Artist Canvas; whether its scrapbooking canvas is within the scope of the antidumping duty order; requested March 20, 2010.

A-570-909: Steel Nails From the People's Republic of China

Requestor: Target Corporation; whether its tool kit is within the scope of the antidumping duty order; requested December 11, 2009.

A-570-922/C-570-923: Raw Flexible Magnets From the People's Republic of China

Requestor: InterDesign; whether its raw flexible magnets are within the scope of the antidumping duty and countervailing duty orders; requested March 26, 2010; initiated May 18, 2010.

A-570-922/C-570-923: Raw Flexible Magnets From the People's Republic of China

Requestor: Medical Action Industries, Inc.; whether its raw flexible magnets and a surgical instrument drape are within the scope of the antidumping duty and countervailing duty orders; requested June 14, 2010.

A-570-932: Steel Threaded Rod From the People's Republic of China

Requestor: Elgin Fastener Group; whether its cold headed double threaded ended bolt is within the scope of the antidumping duty order; requested November 4, 2009.

Multiple Countries

A-533-838/C-533-839/A-570-892: Carbazole Violet Pigment 23 From India and the People's Republic of China

Requestor: Nation Ford Chemical Co., and Sun Chemical Corp.; whether finished carbazole violet pigment exported from Japan is within the scope of the antidumping duty and countervailing duty orders; requested February 23, 2010.

Anticircumvention Rulings Pending as of June 30, 2010:

A-570-849: Certain Cut-to-Length Carbon Steel From the People's Republic of China

Requestor: ArcelorMittal USA, Inc.; Nucor Corporation; SSAB N.A.D., Evraz Claymont Steel and Evraz Oregon Steel Mills; whether certain cut-to-length carbon steel plate from the People's Republic of China that contains a small level of boron, involves such a minor alteration to the merchandise that is so insignificant that the plate is circumventing the antidumping duty order; requested February 17, 2010; initiated April 16, 2010.

A-570-894: Certain Tissue Paper Products From the People's Republic of China

Requestor: Seaman Paper Company of Massachusetts, Inc.; whether certain imports of tissue paper from the Socialist Republic of Vietnam are circumventing the antidumping duty order; requested February 18, 2010; initiated April 5, 2010.

A-570-928: Uncovered Innerspring Units From the People's Republic of China

Requestor: Leggett & Platt, Incorporated; whether coils (including individual coils, coil strips, and other made-up articles of innersprings units) and border rods from the People's Republic of China, which are assembled post-importation into innerspring units in the United States, are circumventing the antidumping duty order; requested March 15, 2010.

Interested parties are invited to comment on the completeness of this list of pending scope and anticircumvention inquiries. Any comments should be submitted to the Deputy Assistant Secretary for AD/CVD Operations, Import Administration, International Trade Administration, 14th Street and Constitution Avenue, NW., APO/Dockets Unit, Room 1870, Washington, DC 20230.

This notice is published in accordance with 19 CFR 351.225(o).

Dated: November 1, 2010.
Susan H. Kuhbach,
Acting Deputy Assistant Secretary for Antidumping and Countervailing Duty Operations.

[FR Doc. 2010-31876 Filed 12-17-10; 8:45 am]

BILLING CODE 3510-DS-P